DEPARTMENT OF LABOR

Employment and Training Administration

[TA-W-61,324]

Ford Motor Company, Vehicle Operations Division, Wixom Assembly Plant, Including On-Site Leased Workers of G-Tech Professional Staffing, Inc., MSX and Aerotech, Wixom, MI; Amended Notice of Revised Determination on Reconsideration

In accordance with section 223 of the Trade Act of 1974 (19 U.S.C. 2273), and section 246 of the Trade Act of 1974 (26 U.S.C. 2813), as amended, the Department of Labor issued a Notice of Revised Determination on Reconsideration on August 22, 2007. The notice was published in the Federal Register on August 30, 2007 (72 FR 50128).

On our own motion, the Department reviewed the Notice of Revised Determination on Reconsideration for workers of the subject firm. The workers were engaged in the assembly of Lincoln Towncars.

The review of the investigation record shows that the Department inadvertently excluded from the certification on-site leased workers from G-Tech Professional Staffing, Inc., MSX and Aerotech. The Department has determined that these workers were sufficiently under the control of Ford Motor Company, Vehicle Operations Division, Wixom Assembly Plant to be considered leased workers.

Accordingly, the Department is amending this certification to include leased workers of G-Tech Professional Staffing, Inc., MSX and Aerotech working on-site at the Wixom, Michigan location of the subject firm.

The intent of the Department's certification is to include all workers employed at Ford Motor Company, Vehicle Operations Division, Wixom Assembly Plant, Wixom, Michigan who were adversely-impacted by a shift in production to Canada.

The amended notice applicable to TA-W-61,324 is hereby issued as follows:

All workers of Ford Motor Company, Vehicle Operations Division, Wixom Assembly Plant, including on-site leased workers of G-Tech Professional Staffing, Inc., MSX and Aerotech, Wixom, Michigan, who became totally or partially separated from employment on or after April 12, 2006, through August 22, 2009, are eligible to apply for adjustment assistance under Section 223 of the Trade Act of 1974, and are also eligible to apply for alternative trade adjustment assistance under Section 246 of the Trade Act of 1974.

Signed at Washington, DC, this 14th day of November 2007.
Elliott S. Kushner,
Certifying Officer, Division of Trade Adjustment Assistance.

[FR Doc. E7-22746 Filed 11-20-07; 8:45 am]

BILLING CODE 4510-FN-P